NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (13883) (Virtual).

Date and Time: November 19, 2024; 10:00am-4:00pm.

Place: National Science Foundation, 2415 Eisenhower Avenue, Room E 3430, Alexandria, VA 22314.

This is a virtual meeting. Members and the public may attend virtually via Zoom.

Attendance information for the meeting will be forthcoming on the AC's website at: https://www.nsf.gov/mps/ast/aaac.jsp.

The link for registration for Zoom is: https://nsf.zoomgov.com/webinar/register/WN_ICy042ZyTtylN3bhME58MQ.

Type of Meeting: Open.

Contact Person: Dr. Daniel Fabrycky, Program Director, Division of Astronomical Sciences, Suite W 9176, National Science Foundation, 2415 Eisenhower Avenue, Alexandria, VA 22314; Telephone: 703-292-8490.

Purpose of Meeting: To provide advice and recommendations to the National Science Foundation (NSF), the National Aeronautics and Space Administration (NASA) and the U.S. Department of Energy (DOE) on issues within the field of astronomy and astrophysics that are of mutual interest and concern to the agencies. To prepare the annual report.

Agenda: To provide updates on Agency activities and to discuss the Committee's draft annual report due 15 March 2025.

Dated: October 31, 2024.
Crystal Robinson,
Committee Management Officer.

[FR Doc. 2024-25737 Filed 11-5-24; 8:45 am]

BILLING CODE 7555-01-P